DEPARTMENT OF THE INTERIOR

Bureau of Land Management

[LLWO260000 L10600000.PC0000]

Renewal of Approved Information Collection; OMB Control No. 1004-0042

AGENCY: Bureau of Land Management, Interior.

ACTION: 30-Day notice and request for comments.

SUMMARY: The Bureau of Land Management (BLM) has submitted an information collection request to the Office of Management and Budget (OMB) to continue the collection of information from those who wish to adopt and obtain title to wild horses and burros. The OMB previously approved this information collection activity, and assigned it control number 1004-0042.

DATES: The OMB is required to respond to this information collection request within 60 days but may respond after 30 days. For maximum consideration, written comments should be received on or before February 13, 2017.

ADDRESSES: Please submit comments directly to the Desk Officer for the Department of the Interior (OMB #1004-0042), Office of Management and Budget, Office of Information and Regulatory Affairs, fax 202-395-5806, or by electronic mail at OIRA_submission@omb.eop.gov. Please provide a copy of your comments to the BLM. You may do so via mail, fax, or electronic mail.

Mail: U.S. Department of the Interior, Bureau of Land Management, 1849 C Street NW., Room 2134LM, Attention: Jean Sonneman, Washington, DC 20240.

Fax: to Jean Sonneman at 202-245-0050.

Electronic mail: jesonnem@blm.gov.

Please indicate “Attn: 1004-0042” regardless of the form of your comments.

FOR FURTHER INFORMATION CONTACT: Holle Hooks, at 405-234-1860. Persons who use a telecommunication device for the deaf may call the Federal Relay Service at 1-800-877-8339, to leave a message for Ms. Hooks. You may also review the information collection request online at http://www.reginfo.gov/public/do/PRAMain.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), the BLM published a 60-day notice in the Federal Register on September 20, 2016 (81 FR 64502), and the comment period ended November 21, 2016. The BLM received two non-substantive public comments, which did not address, and were not germane to, this information collection. Therefore, the BLM has not changed the collection in responses to the comments.

The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-0042 in your correspondence. Before including your address, phone number, email address, or other personal identifying information in your comment, you should be aware that your entire comment—including your personal identifying information—may be made publicly available at any time. While you can ask us in your comment to withhold your personal identifying information from public review, we cannot guarantee that we will be able to do so.

The following information pertains to this request:

Title: Protection, Management, and Control of Wild Horses and Burros (43 CFR part 4700).

Forms: Form 4710-10, Application for Adoption of Wild Horse(s) or Burro(s).

OMB Control Number: 1004-0042.

Abstract: This notice pertains to the collection of information that enables the BLM to administer its private maintenance (i.e., adoption) program for wild horses and burros. The BLM uses the information to determine if applicants are qualified to provide humane care and proper treatment to wild horses and burros in compliance with the Wild Free-Roaming Horses and Burros Act (16 U.S.C. 1331-1340).

Frequency: On occasion.

Description of Respondents: Those who wish to adopt and obtain title to wild horses and burros.

Estimated Number of Responses Annually: 7,093.

Estimated Reporting and Recordkeeping “Hour” Burden Annually: 3,545.

Estimated Reporting and Recordkeeping “Non-Hour Cost” Burden Annually: $2,400.

The estimated burdens are itemized in the following table:

Type of response | Number of responses | Time per response (minutes) | Total hours (Column B × Column C)
A. | B. | C. | D.
Application for Adoption of Wild Horse(s) or Burro(s) 43 CFR 4750.3-1 and 4750.3-2 Form 4710-10 | 7,000 | 30 | 3,500
Supporting Information and Certification for Private Maintenance of More Than Four Wild Horses or Burros 43 CFR 4750.3-3 | 6 | 10 | 1
Request to Terminate Private Maintenance and Care Agreement 43 CFR 4750.4-3 | 75 | 30 | 38
Request for Replacement Animals or Refund 43 CFR 4750.4-4 | 12 | 30 | 6
Totals | 7,093 |  | 3,545

Mark Purdy,
Bureau of Land Management, Management Analyst.

[FR Doc. 2017-00757 Filed 1-12-17; 8:45 am]

BILLING CODE 4310-84-P